Title 3—

The President

Executive Order 14244 of March 21, 2025

Addressing Remedial Action by Paul Weiss

By the authority vested in me as President by the Constitution and the laws of the United States of America, it is hereby ordered:

Section 1. Background. On March 14, 2025, I signed Executive Order 14237 (Addressing Risks from Paul Weiss) to address certain issues related to Paul, Weiss, Rifkind, Wharton & Garrison LLP (Paul Weiss). I noted that “[g]lobal law firms have for years played an outsized role in undermining the judicial process and in the destruction of bedrock American principles.” Paul Weiss is one of many law firms that have participated in this harmful activity.

Earlier this week, though, Paul Weiss indicated that it will engage in a remarkable change of course. Specifically, Paul Weiss has acknowledged the wrongdoing of its former partner Mark Pomerantz, and it has agreed to a number of policy changes to promote equality, justice, and the principles that keep our Nation strong, including: adopting a policy of political neutrality with respect to client selection and attorney hiring; taking on a wide range of pro bono matters representing the full political spectrum; committing to merit-based hiring, promotion, and retention, instead of “diversity, equity, and inclusion” policies; dedicating the equivalent of $40 million in pro bono legal services during my term in office to support causes including assisting our Nation's veterans, fairness in the justice system, and combating anti-Semitism; and other similar initiatives.

This development should give Americans hope. If the legal profession dedicates a fraction of its energy to bringing justice to local communities, unleashing hard-working businesses, strengthening the American family, and unifying our Nation, all Americans will benefit.

Sec. 2. Revocation I hereby revoke Executive Order 14237 of March 14, 2025 (Addressing Risks from Paul Weiss).

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 21, 2025.

[FR Doc. 2025-05291

Filed 3-25-25; 8:45 am]

Billing code 3395-F4-P